DEPARTMENT OF TRANSPORTATION

Federal Aviation Administration

14 CFR Part 39

[Docket No. FAA-2005-22918; Directorate Identifier 2005-NM-172-AD; Amendment 39-15143; AD 2007-16-04]

RIN 2120-AA64

Airworthiness Directives; Airbus Model A319-100 and A320-200 Series Airplanes

AGENCY: Federal Aviation Administration (FAA), Department of Transportation (DOT).

ACTION: Final rule.

SUMMARY: The FAA is adopting a new airworthiness directive (AD) for certain Airbus Model A319-100 and A320-200 series airplanes. This AD requires repetitive inspections of the wing-tank fuel pumps, canisters, and wing fuel tanks for detached identification labels, and corrective action if necessary. This AD also requires modification of the fuel strainers at the fuel pump and suction bypass intakes, which would end the repetitive inspections. This AD results from several incidents of detached plastic identification labels found floating in the wing fuel tanks. We are issuing this AD to prevent plastic identification labels being ingested into the fuel pumps and consequently entering the engine fuel feed system, which could result in an engine shutdown.

DATES: This AD becomes effective September 13, 2007.

The Director of the Federal Register approved the incorporation by reference of certain publications listed in the AD as of September 13, 2007.

ADDRESSES: You may examine the AD docket on the Internet at http://dms.dot.gov or in person at the U.S. Department of Transportation, Docket Operations, M-30, West Building Ground Floor, Room W12-140, 1200 New Jersey Avenue, SE., Washington, DC.

Contact Airbus, 1 Rond Point Maurice Bellonte, 31707 Blagnac Cedex, France, for service information identified in this AD.

FOR FURTHER INFORMATION CONTACT: Tim Dulin, Aerospace Engineer, International Branch, ANM-116, FAA, Transport Airplane Directorate, 1601 Lind Avenue, SW., Renton, Washington 98057-3356; telephone (425) 227-2141; fax (425) 227-1149.

SUPPLEMENTARY INFORMATION:

Examining the Docket

You may examine the airworthiness directive (AD) docket on the Internet at http://dms.dot.gov or in person at the Docket Operations office between 9 a.m. and 5 p.m., Monday through Friday, except Federal holidays. The Docket Operations office (telephone (800) 647-5527) is located on the ground floor of the West Building at the street address stated in the ADDRESSES section.

Discussion

The FAA issued a supplemental notice of proposed rulemaking (NPRM) to amend 14 CFR part 39 to include an AD that would apply to certain Airbus Model A319-100 and Model A320-200 series airplanes. That supplemental NPRM was published in the Federal Register on March 29, 2007 (72 FR 14715). That supplemental NPRM proposed to require repetitive inspections of the wing-tank fuel pumps, canisters, and wing fuel tanks for detached identification labels, and corrective action if necessary. That supplemental NPRM also proposed to mandate modification of the fuel strainers at the fuel pump and suction bypass intakes.

Comments

We provided the public the opportunity to participate in the development of this AD. We have considered the comments received.

Request To Add Revised Service Information

Air Transport Association (ATA), on behalf of US Airways, asks that we update the service bulletin reference for the modification specified in paragraph (j) of the supplemental NPRM to Revision 01 of Airbus Service Bulletin A320-28-1149, dated October 9, 2006.

We agree with the request. Airbus has issued Service Bulletin A320-28-1149, Revision 01, dated October 9, 2006. We referred to the original issue of the service bulletin, dated June 14, 2006, as the appropriate source of service information for accomplishing the modification. The procedures in Revision 01 are essentially the same as those in the original issue; however, the procedures in Revision 01 add certain clarifications, and the work hours for accomplishing the modification have been increased. We have changed paragraph (j) of this AD to refer to Revision 01 of the service bulletin, added a new paragraph (k) to this AD to give credit for the original issue of the service bulletin, and re-identified subsequent paragraphs accordingly.

Request To Change Applicability/Add Revised Service Information

Airbus asks that we change the applicability specified in paragraph (c) of the supplemental NPRM. Airbus states that the applicability refers to Airbus Service Bulletins A320-28-1102, Revision 02, dated July 10, 2006; and A320-57-1117, Revision 02, dated March 13, 2006. Airbus notes that the service bulletins are being revised to remove manufacturer's serial numbers (MSNs) 1083, 1310, 1314, and 1360, because Airbus has confirmed that labels were never installed on these airplanes. Airbus also notes that European Aviation Safety Agency (EASA) airworthiness directive 2006-0236, also referred to in the supplemental NPRM, has been revised to remove the MSNs; however, due to an administrative error, MSN 1083 remains in the compliance section of the EASA airworthiness directive. In conclusion, Airbus asks that the applicability section be updated to reflect these changes.

We agree to change the applicability specified in paragraph (c) of this AD to exclude airplanes having MSNs 1083, 1310, 1314, and 1360. However, since the referenced service bulletins have not yet been revised to remove these airplanes, we will retain the reference to Revision 2 of the service bulletin in paragraph (c) as well as paragraph (f) of this AD, which is repetitive inspections and corrective actions of the four wing-tank fuel pumps and canisters.

Request To Change Costs of Compliance Section

Northwest Airlines (NWA) states that it is in the process of implementing the modification of the fuel pump strainers specified in Service Bulletin A320-28-1149. NWA adds that its work-hour estimate is 54 hours for implementation, after access to the tanks is gained. NWA does not provide a specific request.

We infer that NWA is asking that we increase the number of work hours for accomplishing the modification, as specified in the Costs of Compliance section of the supplemental NPRM. Revision 01 of Service Bulletin A320-28-1149 specifies an increase in the work hours for accomplishing the modification from 20 to 36; therefore, we have changed the work hours in the Costs of Compliance section of this AD to match the work hours specified in the subject service bulletin. However, modification costs will likely vary depending on the operator and the airplane configuration.

Request To Change Repetitive Inspection Requirement

NWA agrees with the 3,000-flight-hour repetitive inspection interval after the initial label removal has been completed. However, NWA has not found any labels in the wing pumps on affected airplanes after the removal procedure has been done. NWA would like the exception “following any wing-tank fuel pump failure” removed from the repetitive inspection requirement specified in paragraph (g)(2) of the supplemental NPRM to simplify the continued inspections.

We do not agree with the NWA request. Accomplishment of the label removal procedure does not completely remove the risk of detached labels getting into the fuel system, since some of the labels are not accessible during the label removal procedure. The FAA-approved Master Minimum Equipment List prohibits dispatch with one wing-tank fuel pump inoperative on the airplanes affected by the requirements in this AD. Therefore, the fuel pump would have to be repaired before further flight, and inspecting for labels would not impose any additional burden. We have made no change to the AD in this regard.

Conclusion

We have carefully reviewed the available data, including the comments received, and determined that air safety and the public interest require adopting the AD with the changes described previously. We have determined that these changes will neither increase the economic burden on any operator nor increase the scope of the AD.

Costs of Compliance

The following table provides the estimated costs for U.S. operators to comply with this AD.

Estimated Costs
Action | Work hours | Average labor rate per hour | Parts | Cost per airplane | Number of U.S.-registered airplanes | Fleet cost
Inspection specified in Service Bulletin A320-28-1102 | 3 | $80 | $0 | $240, per inspection cycle | 70 | $16,800, per inspection cycle.
Inspection specified in Service Bulletin A320-57-1117 | 20 | 80 | 0 | $1,600, per inspection cycle | 70 | $112,000, per inspection cycle.
Modification specified in Service Bulletin A320-28-1149, Revision 01 | 36 | 80 | 0 | $2,880 | 70 | $201,600.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2007-16-04 Airbus: Amendment 39-15143. Docket No. FAA-2005-22918; Directorate Identifier 2005-NM-172-AD.

Effective Date

(a) This AD becomes effective September 13, 2007.

Affected ADs

(b) None.

Applicability

(c) This AD applies to Airbus Model A319-100 and Model A320-200 series airplanes, certificated in any category; as identified in Airbus Service Bulletins A320-28-1102, Revision 02, dated July 10, 2006; and A320-57-1117, Revision 02, dated March 13, 2006; except airplanes having manufacturer's serial numbers 1083, 1310, 1314, and 1360.

Unsafe Condition

(d) This AD results from several incidents of detached plastic identification labels found floating in the wing fuel tanks. We are issuing this AD to prevent plastic identification labels being ingested into the fuel pumps and consequently entering the engine fuel feed system, which could result in an engine shutdown.

Compliance

(e) You are responsible for having the actions required by this AD performed within the compliance times specified, unless the actions have already been done.

Repetitive Inspections/Corrective Actions of Four Wing-Tank Fuel Pumps and Canisters

(f) Perform a detailed inspection for detached identification labels in the four wing-tank fuel pumps and canisters, and do all applicable corrective actions, by doing all the actions in accordance with the Accomplishment Instructions of Airbus Service Bulletin A320-28-1102, Revision 02, dated July 10, 2006; except as provided by paragraph (j) of this AD. Do all applicable corrective actions before further flight. Inspect at the earlier of the compliance times specified in paragraphs (f)(1) and (f)(2) of this AD.

(1) Within 600 flight hours after the effective date of this AD.

(2) Before the next flight following any wing-tank fuel pump failure.

(g) Repeat the inspection required by paragraph (f) of this AD thereafter at the applicable time specified in paragraph (g)(1) or (g)(2) of this AD, until accomplishment of paragraph (j) of this AD.

(1) For airplanes on which the inspection required by paragraph (i) of this AD has not been done: Repeat the inspection at intervals not to exceed the earlier of the times specified in paragraphs (g)(1)(i) and (g)(1)(ii) of this AD.

(i) 600 flight hours.

(ii) Before the next flight following any wing-tank fuel pump failure.

(2) For airplanes on which the inspection required by paragraph (i) of this AD has been done: Repeat the inspection at intervals not to exceed the earlier of the times specified in paragraphs (g)(2)(i) and (g)(2)(ii) of this AD.

(i) 3,000 flight hours.

(ii) Before the next flight following any wing-tank fuel pump failure.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Credit for Actions Accomplished Using Previous Service Information

(h) Inspections and corrective actions accomplished before the effective date of this AD in accordance with Airbus Service Bulletin A320-28-1102, dated August 20, 2002; or Revision 01, dated February 11, 2005; are considered acceptable for compliance with the corresponding actions specified in paragraph (f) of this AD.

Inspection/Corrective Actions of the Collector Cells, Surge Tank, Wing Fuel Tank and Vent Box

(i) Within 60 months after the effective date of this AD: Perform a detailed inspection for detached identification labels in the collector cells between ribs 1 and 2, the surge tank between ribs 22 and 26, and the wing fuel tank and vent box, and do any applicable corrective actions, by doing all the applicable actions in accordance with the Accomplishment Instructions of Airbus Service Bulletin A320-57-1117, Revision 02, including Appendix 01, dated March 13, 2006. Do any applicable corrective action before further flight.

Modification

(j) Before the accumulation of 162 months since first flight of the airplane, or within 6 months after the effective date of this AD, whichever is later: Modify the fuel strainers at the fuel pump and suction bypass intakes by doing all the actions in accordance with Airbus Service Bulletin A320-28-1149, Revision 01, dated October 9, 2006. Accomplishment of the modification in this paragraph ends the repetitive inspections required by paragraph (g) of this AD.

Credit for Actions Accomplished Using Previous Service Information

(k) Modifications accomplished before the effective date of this AD in accordance with Airbus Service Bulletin A320-28-1149, dated June 14, 2006, are considered acceptable for compliance with the corresponding actions specified in paragraph (j) of this AD.

No Reporting Required

(l) Although Airbus Service Bulletin A320-28-1102, Revision 02, dated July 10, 2006, specifies submitting an inspection report to the manufacturer, this AD does not include that requirement.

Alternative Methods of Compliance (AMOCs)

(m)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify your appropriate principal inspector (PI) in the FAA Flight Standards District Office (FSDO), or lacking a PI, your local FSDO.

Related Information

(n) European Aviation Safety Agency airworthiness directive 2006-0236R1, dated March 9, 2007, also addresses the subject of this AD.

Material Incorporated by Reference

(o) You must use the Airbus service bulletins specified in Table 1 of this AD to perform the actions that are required by this AD, unless the AD specifies otherwise. The Director of the Federal Register approved the incorporation by reference of these documents in accordance with 5 U.S.C. 552(a) and 1 CFR part 51. Contact Airbus, 1 Rond Point Maurice Bellonte, 31707 Blagnac Cedex, France, for a copy of this service information. You may review copies at the FAA, Transport Airplane Directorate, 1601 Lind Avenue, SW., Renton, Washington; or at the National Archives and Records Administration (NARA). For information on the availability of this material at NARA, call 202-741-6030, or go to: http://www.archives.gov/federal-register/cfr/ibr-locations.html.

Table 1.—Material Incorporated by Reference
Airbus Service Bulletin | Revision level | Date
A320-28-1102, excluding Appendix 01 | 02 | July 10, 2006.
A320-57-1117, including Appendix 01 | 02 | March 13, 2006.
A320-28-1149 | 01 | October 9, 2006.

Issued in Renton, Washington, on July 30, 2007.
Ali Bahrami,
Manager, Transport Airplane Directorate, Aircraft Certification Service.

[FR Doc. E7-15225 Filed 8-8-07; 8:45 am]

BILLING CODE 4910-13-P